DEPARTMENT OF TRANSPORTATION

Federal Aviation Administration

14 CFR Part 39

[Docket No. FAA-2017-0933; Product Identifier 2017-SW-051-AD; Amendment 39-19106; AD 2017-24-02]

RIN 2120-AA64

Airworthiness Directives; Airbus Helicopters Deutschland GmbH Helicopters

AGENCY: Federal Aviation Administration (FAA), Department of Transportation (DOT).

ACTION: Final rule; request for comments.

SUMMARY: We are adopting a new airworthiness directive (AD) for Airbus Helicopters Deutschland GmbH (Airbus Helicopters) Model MBB-BK 117 D-2 helicopters. This AD requires amending the rotorcraft flight manual to establish a minimum airspeed limitation for the autopilot cruise height mode. This AD is prompted by two reports of uncommanded helicopter climbs and descents. The actions of this AD are intended to address an unsafe condition on these products.

DATES: This AD becomes effective December 13, 2017.

The Director of the Federal Register approved the incorporation by reference of certain documents listed in this AD as of December 13, 2017.

We must receive comments on this AD by January 29, 2018.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2017-0933; or in person at the Docket Operations Office between 9 a.m. and 5 p.m., Monday through Friday, except Federal holidays. The AD docket contains this AD, the European Aviation Safety Agency AD, any incorporated by reference service information, the economic evaluation, any comments received, and other information. The street address for the Docket Operations Office (telephone 800-647-5527) is in the ADDRESSES section. Comments will be available in the AD docket shortly after receipt.

For service information identified in this final rule, contact Airbus Helicopters, 2701 N. Forum Drive, Grand Prairie, TX 75052; telephone (972) 641-0000 or (800) 232-0323; fax (972) 641-3775; or at http://www.helicopters.airbus.com/Web site/en/ref/Technical-Support_73.html. You may review the referenced service information at the FAA, Office of the Regional Counsel, Southwest Region, 10101 Hillwood Pkwy., Room 6N-321, Fort Worth, TX 76177. It is also available on the Internet at http://www.regulations.gov by searching for and locating Docket No. FAA-2017-0933.

FOR FURTHER INFORMATION CONTACT: George Schwab, Aviation Safety Engineer, Safety Management Section, Rotorcraft Standards Branch, FAA, 10101 Hillwood Pkwy., Fort Worth, TX 76177; telephone (817) 222-5110; email george.schwab@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

The European Aviation Safety Agency (EASA), which is the Technical Agent for the Member States of the European Union, has issued EASA AD No. 2017-0146, dated August 10, 2017, to correct an unsafe condition for Airbus Helicopters Model MBB-BK 117 D-2 helicopters. EASA advises that two incidents of uncommanded helicopter climbs and descents have been reported following activation of the autopilot cruise height (CRHT) mode concurrently with the ground trajectory command in hover mode (GTCH). EASA advises this condition, if not detected and corrected, could lead to temporary loss of control of the helicopter or injury to the helicopter's occupants. To address this unsafe condition, EASA requires a minimum airspeed limitation of 40 knots for the autopilot CRHT mode. Since the rotorcraft cannot enter GTCH mode at speeds above 40 knots, under this limitation, CRHT mode will not be engaged concurrently with GTCH mode. EASA considers its AD interim action, pending an autopilot software upgrade to prevent further occurrences.

FAA's Determination

These helicopters have been approved by the aviation authority of Germany and are approved for operation in the United States. Pursuant to our bilateral agreement with Germany, EASA, its technical representative, has notified us of the unsafe condition described in the EASA AD. We are issuing this AD because we evaluated all information provided by EASA and determined the unsafe condition exists and is likely to exist or develop on other helicopters of these same type designs.

Related Service Information Under 1 CFR Part 51

We reviewed Airbus Helicopters BK117 D-2 Flight Manual Temporary Revision No. 1, dated March 28, 2017, for Model BK117 D-2 helicopters, and Airbus Helicopters BK117 D-2 (Helionix Step 2) Flight Manual Temporary Revision No. 1, dated March 28, 2017, for Model BK117 D-2 helicopters with Helionix Step 2. These temporary revisions establish a minimum airspeed limitation of 40 knots for the autopilot CRHT mode.

This service information is reasonably available because the interested parties have access to it through their normal course of business or by the means identified in the ADDRESSES section.

AD Requirements

This AD requires, within 10 hours time-in-service, revising the Operating Limitations section of the rotorcraft flight manual by adding a minimum airspeed limitation for the autopilot of 40 knots when CRHT mode is engaged.

Interim Action

We consider this AD to be an interim action. The design approval holder is currently developing a modification that will address the unsafe condition identified in this AD. Once this modification is developed, approved, and available, we might consider additional rulemaking.

Costs of Compliance

We estimate that this AD affects 16 helicopters of U.S. Registry and that labor costs average $85 per work-hour. Based on these estimates, we expect that making the required changes to the rotorcraft flight manual will require 0.5 work-hour and no parts are needed for a cost of $43 per helicopter and $688 for the U.S. fleet.

FAA's Justification and Determination of the Effective Date

Providing an opportunity for public comments prior to adopting these AD requirements would delay implementing the safety actions needed to correct this known unsafe condition. Therefore, we find that the risk to the flying public justifies waiving notice and comment prior to the adoption of this rule because the required corrective actions must be accomplished within 10 hours time-in-service.

Since an unsafe condition exists that requires the immediate adoption of this AD, we determined that notice and opportunity for prior public comment before issuing this AD are impracticable and contrary to the public interest and that good cause exists to make this AD effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-24-02 Airbus Helicopters Deutschland GmbH: Amendment 39-19106; Docket No. FAA-2017-0933; Product Identifier 2017-SW-051-AD.

(a) Applicability

This AD applies to Airbus Helicopters Deutschland GmbH (Airbus Helicopters) Model MBB-BK 117 D-2 helicopters, certificated in any category.

(b) Unsafe Condition

This AD defines the unsafe condition as a helicopter making an uncommanded climb or descent. This condition could result in loss of helicopter control.

(c) Effective Date

This AD becomes effective December 13, 2017.

(d) Compliance

You are responsible for performing each action required by this AD within the specified compliance time unless it has already been accomplished prior to that time.

(e) Required Actions

Within 10 hours time-in-service, revise the Operating limitations section of the Rotorcraft Flight Manual by adding the information in Figure 1 to paragraph (e) of this AD under Autopilot Limitations. Inserting Airbus Helicopters BK117 D-2 Flight Manual Temporary Revision No. 1, dated March 28, 2017, or Airbus Helicopters BK117 D-2 (Helionix Step 2) Flight Manual Temporary Revision No. 1, dated March 28, 2017, into the RFM is acceptable for compliance with this AD.

Figure 1 to Paragraph (e)
Operating limitations of the autopilot
Minimum airspeed with CRHT mode engaged | 40 kt

(f) Alternative Methods of Compliance (AMOCs)

(1) The Manager, Safety Management Section, Rotorcraft Standards Branch, FAA, may approve AMOCs for this AD. Send your proposal to: George Schwab, Aviation Safety Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD 2017-0146, dated August 10, 2017. You may view the EASA AD on the Internet at http://www.regulations.gov by searching for and locating it in Docket No. FAA-2017-0933.

(h) Subject

Joint Aircraft Service Component (JASC) Code: 2210, Autopilot System.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters BK117 D-2 Flight Manual Temporary Revision No. 1, dated March 28, 2017.

(ii) Airbus Helicopters BK117 D-2 (Helionix Step 2) Flight Manual Temporary Revision No. 1, dated March 28, 2017.

(3) For service information identified in this AD, contact Airbus Helicopters, 2701 N. Forum Drive, Grand Prairie, TX 75052; telephone (972) 641-0000 or (800) 232-0323; fax (972) 641-3775; or at http://www.helicopters.airbus.com/Website/en/ref/Technical-Support_73.html.

(4) You may review a copy of the service information at the FAA, Office of the Regional Counsel, Southwest Region, 10101 Hillwood Pkwy., Room 6N-321, Fort Worth, TX 76177.

(5) You may view this service information that is incorporated by reference at the National Archives and Records Administration (NARA). For information on the availability of this material at NARA, call 202 741 6030, or go to: http://www.archives.gov/federal-register/cfr/ibr-locations.html.

Issued in Fort Worth, Texas, on November 9, 2017.
Scott A. Horn,
Deputy Director for Regulatory Operations, Compliance & Airworthiness Division, Aircraft Certification Service.

[FR Doc. 2017-25189 Filed 11-27-17; 8:45 am]

BILLING CODE 4910-13-P